DEPARTMENT OF LABOR

Veterans' Employment and Training Service

Homeless Veterans' Reintegration into Employment

AGENCY: Veterans' Employment and Training Service, Department of Labor.

Announcement Type: New Notice of Availability of Funds and Solicitation for Grant Applications. The full announcement is posted on http://www.grants.gov.

Funding Opportunity Number: SGA 08-06.

Key Dates: The closing date for receipt of applications is May 14, 2008.

Funding Opportunity Description

The U.S. Department of Labor (USDOL), Veterans' Employment and Training Service (VETS) announces a grant competition under 38 U.S.C. section 2021, as added by section 5 of Public Law 107-95, the Homeless Veterans Comprehensive Assistance Act of 2001 (HVCAA), and authorization was extended through Fiscal Year (FY) 2009 by section 301, Public Law 109-233, the Veterans Housing and Employment Improvement Act of 2005. Section 2021 indicates: “the Secretary of Labor shall conduct, directly or through grant or contract, such programs as the Secretary determines appropriate to provide job training, counseling, and placement services (including job readiness and literacy and skills training) to expedite the reintegration of homeless veterans into the labor force.”

HVRP grants are intended to address two objectives: (1) To provide services to assist in reintegrating homeless veterans into meaningful employment within the labor force, and (2) to stimulate the development of effective service delivery systems that will address the complex problems facing homeless veterans.

The full Solicitation for Grant Application is posted on http://www.grants.gov under U.S. Department of Labor/VETS. Only Applications submitted through http://www.grants.gov will be accepted. If you need to speak to a person concerning these grants, or if you have issues regarding access to the http://www.grants.gov Web site, you may telephone Cassandra Mitchell at 202-693-4570 (not a toll-free number).

Signed at Washington, DC this 22nd day of April, 2007.
Cassandra R. Mitchell,
Grant Officer.

[FR Doc. E8-9065 Filed 4-25-08; 8:45 am]

BILLING CODE 4510-79-P